DEPARTMENT OF THE TREASURY

Community Development Financial Institutions Fund

Open Meeting: Community Development Advisory Board

ACTION: Notice of open meeting.

SUMMARY: This notice announces an open meeting of the Community Development Advisory Board (the Advisory Board), which provides advice to the Director of the Community Development Financial Institutions Fund (CDFI Fund). The meeting will be open to the public who may either attend the meeting in-person or view it as a live webcast. The meeting will be held at the U.S. Department of the Treasury in a room that will accommodate up to 50 members of the public on a first-come, first-served basis. The Advisory Board page on the CDFI Fund website is located at www.cdfifund.gov/cdab. On that page you will find a list of prior meeting dates as well as the date of the upcoming September 2024 meeting. The link to view the live webcast for the upcoming meeting is posted under the September 2024 meeting date.

DATES: The meeting will be held from 9:30 a.m. to 4:00 p.m. Eastern Time on Thursday, September 19, 2024.

ADDRESSES: The Advisory Board meeting will be held in the Cash Room at the U.S. Department of the Treasury located at 1500 Pennsylvania Avenue NW, Washington, DC 20220.

Submission of Written Statements: Participation in the discussions at the meeting will be limited to Advisory Board members, Department of the Treasury staff, and certain invited guests. Anyone who would like to have the Advisory Board consider a written statement must submit it by 5:00 p.m. Eastern Time on Wednesday, September 11, 2024. Send statements electronically to AdvisoryBoard@cdfi.treas.gov. All written statements submitted by the deadline will be responded to with a simple acknowledgement of receipt.

In general, the CDFI Fund will make all statements available in their original format, including any business or personal information provided such as names, addresses, email addresses, or telephone numbers, for virtual public inspection and copying. The CDFI Fund is open on official business days between the hours of 9:00 a.m. and 5:00 p.m. Eastern Time. You can make arrangements to virtually inspect statements by emailing AdvisoryBoard@cdfi.treas.gov. All statements received, including attachments and other supporting materials, are part of the public record and subject to public disclosure. You should only submit information that you wish to make publicly available.

FOR FURTHER INFORMATION CONTACT: Bill Luecht, Senior Advisor, Office of Legislative and External Affairs, CDFI Fund; (202) 653-0322 (this is not a toll-free number); or AdvisoryBoard@cdfi.treas.gov. Other information regarding the CDFI Fund and its programs may be obtained through the CDFI Fund's website at http://www.cdfifund.gov.

SUPPLEMENTARY INFORMATION: Section 104(d) of the Riegle Community Development and Regulatory Improvement Act of 1994 (Pub. L. 103-325), which created the CDFI Fund, established the Advisory Board. The charter for the Advisory Board has been filed in accordance with the Federal Advisory Committee Act, as amended (5 U.S.C. 1001 et seq.), and with the approval of the Secretary of the Treasury.

The function of the Advisory Board is to advise the Director of the CDFI Fund (who has been delegated the authority to administer the CDFI Fund) on the policies regarding the activities of the CDFI Fund. The Advisory Board is not a governing board, and it does not advise the CDFI Fund on approving or declining any particular application for monetary or non-monetary awards.

In accordance with section 10(a) of the Federal Advisory Committee Act, 5 U.S.C. 1009 and the regulations thereunder, Bill Luecht, Designated Federal Officer of the Advisory Board, has ordered publication of this notice that the Advisory Board will convene an open meeting, which will be held in the Cash Room at the U.S. Department of the Treasury located at 1500 Pennsylvania Avenue NW, Washington, DC 20220, from 9:30 a.m. to 4:00 p.m. Eastern Time on Thursday. September 19, 2024. The room will accommodate up to 50 members of the public on a first-come, first-served basis.

Because the meeting will be held in a secure federal building, members of the public who wish to attend the meeting must register in advance. The link to the online registration system is also posted under the date of the meeting at www.cdfifund.gov/cdab. The registration deadline is 11:59 p.m. Eastern Time on Monday, September 16, 2024. For entry into the building on the date of the meeting, each attendee must present his or her government issued ID, such as a driver's license or passport, which includes a photo.

Members of the public who wish to view the live webcast can access the link which will be posted under the date of the meeting at www.cdfifund.gov/cdab.

The Advisory Board meeting will include a report from the CDFI Fund Director on the activities of the CDFI Fund and panel discussions related to the Advisory Board's subcommittees. This meeting is being convened to commemorate the 30th anniversary of the establishment of the CDFI Fund.

Authority: 12 U.S.C. 4703.

Pravina Raghavan,
Director, Community Development Financial Institutions Fund.

[FR Doc. 2024-18995 Filed 8-22-24; 8:45 am]

BILLING CODE 4810-70-P